DEPARTMENT OF COMMERCE

National Oceanic and Atmospheric Administration

RIN 0648-XR86

Endangered Species; File No. 14510

AGENCY: National Marine Fisheries Service (NMFS), National Oceanic and Atmospheric Administration (NOAA), Commerce.

ACTION: Notice; receipt of application.

SUMMARY: Notice is hereby given that NMFS Southwest Fisheries Science Center, 3333 North Torrey Pines Court, La Jolla, CA 92037-1023, has applied in due form for a permit to take green (Chelonia mydas), loggerhead (Caretta caretta), olive ridley (Lepidochelys olivacea), and leatherback (Dermochelys coriacea) sea turtles for scientific research.

DATES: Written, telefaxed, or e-mail comments must be received on or before December 18, 2009.

ADDRESSES: The application and related documents are available for review by selecting “Records Open for Public Comment” from the Features box on the Applications and Permits for Protected Species (APPS) home page, https://apps.nmfs.noaa.gov, and then selecting File No. 14510 from the list of available applications. These documents are also available for review upon written request or by appointment in the following offices:

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14510.

FOR FURTHER INFORMATION CONTACT: Patrick Opay or Kate Swails, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the proposed research project is to initiate a baseline study of the status of sea turtles in the San Gabriel River and Alamitos Bay in Long Beach, California. Researchers would also opportunistically take samples and potentially track sea turtles incidentally taken in coastal power plants off California and that strand live in the marine environment. The applicant would study abundance, size ranges, growth, sex ratio, health status, diving behavior, local movements, habitat use, migration routes, and contaminant levels. Researchers would track the movements of healthy turtles released off the coast of California to determine their movements locally and/or offshore. Researchers would annually capture, measure, weigh, photograph/video, flipper tag, passive integrated transponder tag (PIT), tissue biopsy, blood sample, scute scrape, lavage, ultrasound, oral swab, cloacal swab, inject tetracycline, and release up to 35 green, six loggerhead, and six olive ridley sea turtles during captures as part of the San Gabriel and Los Alamitos Bay California project. Fifteen of the 35 green sea turtles would have a sonic transmitter attached, five of the green sea turtles would have a satellite transmitter attached, five would have a sonic transmitter and camera attached, and five would have a sonic transmitter and time depth recorder attached. One of the loggerhead sea turtles and two of the olive ridley sea turtles would also have a satellite transmitter attached.

Researchers would also annually measure, weigh, photograph/video, flipper tag, PIT tag, tissue biopsy, blood sample, scute scrape, lavage, ultrasound, oral swab, cloacal swab, inject tetracycline, transport, and release up to ten green, one olive ridley, and three loggerhead sea turtles taken in power plant entrainments. Three of the loggerheads, the one olive ridley, and one of the loggerhead sea turtles would also have a satellite transmitter attached. Researchers would also have authority to salvage, necropsy, and sample animals that die as a result of entrainment.

Researches would also annually measure, weigh, photograph/video, flipper tag, PIT tag, tissue biopsy, blood sample, scute scrape, lavage, ultrasound, oral swab, cloacal swab, transport, and release up to four green, one olive ridley, one loggerhead, and two leatherback sea turtles that strand in the marine environment. One of the green, the olive ridley, and the loggerhead would have a satellite transmitter attached. The leatherbacks would have a camera attached. Researchers would also have authority to authority to salvage, necropsy, and sample animals that die as a result of stranding. The applicant requests a five year permit.

Dated: November 12, 2009.
P. Michael Payne,
Chief, Permits, Conservation and Education Division, Office of Protected Resources, National Marine Fisheries Service.

[FR Doc. E9-27677 Filed 11-17-09; 8:45 am]

BILLING CODE 3510-22-S